ENVIRONMENTAL PROTECTION AGENCY

40 CFR Part 52

[EPA-R04-OAR-2017-0395; FRL-9978-32—Region 4]

Air Plan Approvals; Tennessee: Revisions to Ambient Air Quality Standards

AGENCY: Environmental Protection Agency.

ACTION: Proposed rule.

SUMMARY: The Environmental Protection Agency (EPA) is proposing to approve a portion of a revision to the Tennessee State Implementation Plan (SIP) submitted on June 25, 2008, by the State of Tennessee, through the Tennessee Department of Environment and Conservation (TDEC), on behalf of the Chattanooga/Hamilton County Air Pollution Control Bureau (Chattanooga/Hamilton County). The SIP submittal includes changes to Chattanooga/Hamilton County's air quality rules that, among other things, modify several ambient air standards. The portion of the SIP revision that EPA is approving is consistent with the requirements of the Clean Air Act (CAA or Act). EPA will act on the other portions of the June 25, 2008, submittal in a separate action.

DATES: Written comments must be received on or before June 20, 2018.

ADDRESSES: Submit your comments, identified by Docket ID No. EPA-R04-OAR-2017-0395 at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Tiereny Bell, Air Regulatory Management Section, Air Planning and Implementation Branch, Air, Pesticides and Toxics Management Division, U.S. Environmental Protection Agency, Region 4, 61 Forsyth Street SW, Atlanta, Georgia 30303-8960. Ms. Bell can be reached via telephone at (404) 562-9088 or via electronic mail at bell.tiereny@epa.gov.

SUPPLEMENTARY INFORMATION:

I. Background

Sections 108 and 109 of the CAA govern the establishment, review, and revision, as appropriate, of the National Ambient Air Quality Standards (NAAQS) to protect public health and welfare. The CAA requires periodic review of the air quality criteria—the science upon which the standards are based—and the standards themselves. EPA's regulatory provisions that govern the NAAQS are found at 40 CFR part 50—National Primary and Secondary Ambient Air Quality Standards.

On June 25, 2008, TDEC submitted to EPA a SIP revision to the Chattanooga/Hamilton County portion of the Tennessee SIP that contains changes to a number of Chattanooga-Hamilton County's air quality rules in Chapter 4 of Part II, Section 4-41. EPA is proposing to approve changes to the SIP through this action that deletes the current version and substitutes a revised version of Chapter 4 of Part II, Section 4-41, Rule 21 of the Chattanooga City Code “Ambient Air Quality Standards.” ¹ Chattanooga-Hamilton County revised its rule to be consistent with changes to federal NAAQS.

¹ EPA will consider the other changes included in Tennessee's June 25, 2008, SIP revision in a future rulemaking.

II. Analysis of State's Submittal

On June 25, 2008, TDEC submitted a SIP revision to EPA for review and approval. The revision deletes the current version and substitutes a revised version of Chapter 4 of Part II, Section 4-41, Rule 21 of the Chattanooga City Code “Ambient Air Quality Standards.” Chattanooga/Hamilton County revised rule 21 to reflect all criteria pollutants; Carbon Monoxide (CO), Lead (Pb), Nitrogen Dioxide (NO2), Particulate Matter (PM10), Ozone (O3), and Sulfur Dioxide (SO2), relating to all the national ambient air quality standards (NAAQS). See 76 FR 54294 (August 31, 2011), 73 FR 66964 (November 12, 2008), 75 FR 6474 (February 9, 2010), 61 FR 52852 (October 8, 1996), 73 FR 16436 (March 27, 2008), 75 FR 35520 (June 22, 2010), 38 FR 25678 (September 14, 1973). EPA is approving this revision to the Chattanooga/Hamilton County portion of the Tennessee SIP to maintain consistency with the NAAQS. The Chattanooga/Hamilton County rule revision became state-effective on June 11, 2008. EPA has reviewed these changes to the Chattanooga/Hamilton County regulations for CO, Pb, NO2, PM10, O3 and SO2, and has made the preliminary determination that these changes are consistent with federal regulation.²

² The submittal does not address the 2008 8-hour O3, 2015 8-hour O3, 2010 SO2, 2010 NO2, 2012 PM2.5 and 2008 Pb standards because these standards were not promulgated at the time the submission was provided to EPA.

III. Incorporation by Reference

In this rule, EPA is proposing to include in a final EPA rule regulatory text that includes incorporation by reference. In accordance with requirements of 1 CFR 51.5, EPA is proposing the incorporation by reference of Chapter 4 of Part II, Section 4-41, Rule 21 of the Chattanooga City Code “Ambient Air Quality Standards.” effective June 11, 2008, which revised criteria pollutants. EPA has made, and will continue to make, these materials generally available through www.regulations.gov and at the EPA Region 4 Office (please contact the person identified in the For Further Information Contact section of this preamble for more information).

IV. Proposed Action

Pursuant to section 110 of the CAA, EPA is proposing to approve the aforementioned changes to Tennessee's SIP for Chapter 4 of Part II, Section 4-41, Rule 21. EPA has evaluated the relevant portion of Tennessee's June 25, 2008, SIP revision and has determined that it meets the applicable requirements of the CAA and EPA regulations.

V. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. This action merely proposes to approve state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

Authority: 42 U.S.C. 7401 et seq.

Dated: May 7, 2018.
Onis “Trey” Glenn, III,
Regional Administrator, Region 4.

[FR Doc. 2018-10688 Filed 5-18-18; 8:45 am]

BILLING CODE 6560-50-P